SELECTIVE SERVICE SYSTEM

Privacy Act; System of Records

AGENCY: Selective Service System.

ACTION: Notice of Amendment to Systems of Records.

SUMMARY: Selective Service System has amended an existing system of records subject to the Privacy Act of 1974. This action is necessary to meet the requirements of the Privacy Act to publish in the Federal Register notice of the existence and character of system of records maintained by the agency.

DATES: The changes became effective in 2012. The system has been operational for five years.

FOR FURTHER INFORMATION CONTACT: Chief Information Officer, Office of Information Technology, Operations Directorate, Selective Service System, 1515 Wilson Boulevard, Arlington, Virginia 22209-2425.

SUPPLEMENTARY INFORMATION: This notice serves to update, amend, and consolidate the System of Records Notice for SSS-5 Reserve Force and National Guard Personnel Records; SSS-6 Uncompensated Personnel Records; and SSS-8 Pay Records published in the Federal Register September 20, 2011, Vol. 76, No 182.

Authority: 5 U.S.C. 552a

SYSTEM NAME:

Integrated Mobilization Information Management System (IMIS) and Reserve and National Guard Personnel Records.

SECURITY CLASSIFICATION:

None.

SYSTEM LOCATION:

National Headquarters, Selective Service System, 1515 Wilson Boulevard, Arlington, VA 22209-2425.

CATEGORIES OF INDIVIDUALS COVERED BY THE SYSTEM:

The Selective Service System is an independent agency of the United States government that maintains information on those potentially subject to military conscription. The statutory mission of the Selective Service is to be prepared to provide trained and untrained personnel to the DoD in the event of a national emergency and to be prepared to implement an alternative service program for registrants classified as conscientious objectors. These records are maintained at the National Headquarters Office in Arlington, VA.

The Selective Service System's Integrated Mobilization Information Management System (IMIS) is an application created by the Agency to manage reserve force officers and resources assigned to the Agency, various budget allocations and expenditures, local area boards, state directors, and Agency material resources. The Agency developed IMIS to manage resources needed to facilitate mission readiness; resources consist of assigned personnel, material, and budget management.

CATEGORIES OF RECORDS IN THE SYSTEM:

The records contain information relating to selection, placement and utilization of military personnel assigned to SSS such as name, rank, Social Security account number, date of birth, physical profile, residence and business addresses, and telephone numbers.

AUTHORITY OF MAINTENANCE OF THE SYSTEM:

Chapter 49, Military Selective Service Act (50 U.S.C. 3801 et seq.)

ROUTINE USES OF RECORDS MAINTAINED IN THE SYSTEM, INCLUDING CATEGORIES OF USERS AND THE PURPOSES OF SUCH USES:

The purpose of these series of records is to provide information on Officers and Warrant Officers of the Reserves and National Guard currently assigned to the SSS. This system is used to verify payment information for reserve force officers assigned to the agency. Records includes full name of the individual, date of birth, selective service number (if available), mailing address, payment information, financial reports and reimbursements. Documents are scanned into this system for computer-based storage and shared with the National Business Center in Denver, Colorado. This system has some PII information unique solely to the system.

POLICIES AND PRACTICES FOR STORING, RETRIEVING, ACCESSING RETAINING, AND DISPOSING OF RECORDS IN THE SYSTEM:

STORAGE:

Data is kept secure in accordance with the National Institutes of Standards and Technologies' Special Publication 800-53 guidelines and the Federal Information Security Management Act of 2002.

RETRIEVABILITY:

Records are indexed by name and Service Number.

SAFEGUARDS:

a. Use of the records or any information contained therein is limited to Selective Service System employees or Reserve Forces Members whose official duties require access.

b. Records maintained by authorized personnel only, who have been trained in the rules and regulations concerning disclosures of information.

c. Periodic security checks and other emergency planning.

SYSTEM MANAGER(S) AND ADDRESS:

Chief Information Officer, Office of Information Technology, Operations Directorate, Selective Service System, 1515 Wilson Boulevard, Arlington, VA 22209-2425.

RETENTION AND DISPOSAL:

Temporary. Cutoff at the end of the calendar year. Destroy immediately after employee is no longer assigned to Selective Service System.

RECORD ACCESS PROCEDURES:

SSS Reserve Forces Members or former members who wish to gain access to their records should make their request in writing addressed to: Selective Service System, 1515 Wilson Boulevard, Arlington, VA 22209-2425, Attn: Military Personnel.

It is necessary to include the Member's full name, rank, branch of service, address, and Social Security Account Number.

CONTESTING RECORD PROCEDURES:

See Record Access Procedures, above.

RECORD SOURCE CATEGORIES:

Information in this system is obtained directly from the individual to whom it applies or is derived from information supplied or is provided by the individual Branch of the Armed Forces.

SYSTEMS EXEMPTED FOR CERTAIN PROVISIONS OF THE ACT:

None.

Dated: June 22, 2017.
Donald M. Benton,
Director.

[FR Doc. 2017-13768 Filed 6-29-17; 8:45 am]

BILLING CODE 8015-01-P